DEPARTMENT OF AGRICULTURE

Food Safety and Inspection Service

[Docket No. 00-026R]

Residue Policy

AGENCY: Food Safety and Inspection Service, USDA.

ACTION: Notice; reopening of comment period.

SUMMARY: The Food Safety and Inspection Service (FSIS) is reopening the comment period for the Federal Register publication “Residue Policy” notice for an additional 30 days. This action responds to a request to allow additional time for comments.

DATES: Comments must be received on or before December 10, 2001.

ADDRESSES: Submit one original and two copies of written comments to: FSIS Docket Room, DOCKET # 00-026R, Room 102, Cotton Annex Building, 300 12th Street, SW., Washington, DC 20250-3700. All comments received in response to this notice will be considered part of the public record and will be available for viewing in the FSIS Docket Room between 8:30 a.m. and 4:30 p.m., Monday through Friday. FSIS has made a technical paper available in the FSIS Docket Room and on the FSIS homepage (www.fsis.usda.gov).

FOR FURTHER INFORMATION CONTACT: Daniel L. Lazenby, Acting Director, Technical Analysis Staff, Office Policy, Program Development and Evaluation; (202) 205-0210.

SUPPLEMENTARY INFORMATION: On August 6, 2001, The Food Safety and Inspection Service (FSIS) announced its intention to harmonize its procedures with those of the Food and Drug Administration (FDA) with respect to the target tissue/marker residue policy in testing animal tissues for residues of new animal drugs (66 FR 40964).

FSIS has reviewed its approach regarding the disposition of carcasses containing residues and has determined that its approach is not consistent with FDA's approach. To ensure that meat containing unsafe levels of chemical residues is not being released into commerce, FSIS intends to modify its approach to testing and disposition of carcasses for violative residues to be more consistent with FDA's target tissue/marker residue policy.

In the August 6, 2001, Federal Register notice, FSIS provided 30 days for comments and stated that it would review the comments and address them in another notice. FSIS has received requests to extend the comment period for 60 days to provide commenters additional time to consider the announced changes. FSIS has considered the request and will re-open the comment. However, FSIS is only re-opening the comment period for an additional 30 days from the publication of this notice. After additional comments are received, FSIS will review them and address them in the future notice that will announce FSIS' intentions.

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on-line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience.

For more information and to be added to the constituent fax list, fax your request to the Congressional and Public Affairs Office, at (202) 720-5704.

Done at Washington, DC on November 5, 2001.
Margaret O'K. Glavin,
Acting Administrator.

[FR Doc. 01-28064 Filed 11-7-01; 8:45 am]

BILLING CODE 3410-DM-P